NUCLEAR REGULATORY COMMISSION

[NRC-2010-0143]

Notice of Availability of Draft Environmental Impact Statement for the Proposed International Isotopes Fluorine Extraction Process and Depleted Uranium Deconversion Plant in Lea County, NM

AGENCY: U.S. Nuclear Regulatory Commission.

ACTION: Draft environmental impact statement; request for comment.

SUMMARY: Notice is hereby given that the U.S. Nuclear Regulatory Commission (NRC) is issuing for public comment the Draft Environmental Impact Statement (EIS) for the Proposed Fluorine Extraction Process and Depleted Uranium Deconversion Plant. By letter dated December 30, 2009, International Isotopes Fluorine Products, Inc. (IIFP), a wholly-owned subsidiary of International Isotopes, Inc., submitted a license application, which included an Environmental Report that proposes the construction, operation, and decommissioning of a fluoride extraction and depleted uranium deconversion facility to be located in Lea County, New Mexico (the “proposed action”).

This Draft EIS is being issued as part of the NRC's process to decide whether to issue a license to IIFP, pursuant to Title 10 of the Code of Federal Regulations (10 CFR) Part 40, to build and operate the proposed depleted uranium deconversion facility. Specifically, IIFP proposed to deconvert depleted uranium hexafluoride (DUF6) into uranium oxide compounds for long-term disposal.

The NRC staff will hold a public meeting on February 2, 2012, to present an overview of the licensing process and the contents of the Draft EIS, and to accept oral and written public comments on the Draft EIS. The meeting will take place at the Lea County Event Center, 5101 Lovington Highway in Hobbs, New Mexico. For 1 hour prior to the public meeting, the NRC staff will be available to informally discuss the proposed IIFP project and answer questions in an “open house” format. This “open house” format provides for one-on-one discussions with the NRC staff involved with the preparation of the Draft EIS. The Draft EIS public meeting will officially begin at 5:30 p.m. The meeting will include the following agenda items: (1) A brief presentation of NRC's roles and responsibilities and the licensing process; (2) a presentation summarizing the contents of the Draft EIS; and (3) an opportunity for interested government agencies, Tribal governments, organizations, and individuals to provide comments on the draft EIS. The public meeting will be transcribed by a court reporter, and the meeting transcript will be made publicly available at a later date.

Persons wishing to provide oral comments at the public meeting may register in advance by contacting Ms. Antoinette Walker-Smith at (800) 368-5642, ext. 6390 no later than January 26, 2012. Those who wish to present comments may also register at the meeting. Individual oral comments may have to be limited by the time available, depending upon the number of persons who register. Written comments can also be provided at the meeting, and should be given to an NRC staff person at the registration desk at the meeting entrance. If special equipment or accommodations are needed to attend or present information at the public meeting, the need should be brought to the attention of Ms. Antoinette Walker-Smith at (800) 368-5642, ext.6390, no later than January 26, 2012, to provide NRC staff with adequate notice to determine whether the request can be accommodated. Please note that comments do not have to be provided at the public meeting and may be submitted at any time during the comment period, as described in the DATES section of this notice. Any interested party may submit comments on the Draft EIS for consideration by NRC staff. Comments may be submitted by any of the methods described in the ADDRESSES section of this notice.

DATES: The public comment period on the Draft EIS begins on the date of publication of the U.S. Environmental Protection Agency's Federal Register (FR) Notice of Filing and ends on February 27, 2012. To ensure consideration, comments on the Draft EIS and the proposed action must be received or postmarked by February 27, 2012. The NRC staff will consider comments received or postmarked after that date to the extent practical.

The NRC will conduct a public meeting in Hobbs, New Mexico. The meeting date, location, and time are listed below:

Meeting Date: Thursday, February 2, 2012.

Meeting Location: Lea County Event Center, 5101 Lovington Highway in Hobbs, New Mexico.

Informal Open House Session: 4:30-5:30 p.m.

Draft EIS Comment Meeting: 5:30-8:30 p.m.

ADDRESSES: Please include Docket ID NRC-2010-0143 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2010-0143. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The “Draft Environmental Impact Statement for the Proposed Fluorine Extraction Process and Depleted Uranium Deconversion Plant in Lea County, New Mexico” is available electronically under ADAMS Accession Number ML12001A000.

• Federal Rulemaking Web Site: Public comments and supporting materials related to this notice can be found at http://www.regulations.gov by searching on Docket ID NRC-2010-0143.

The Draft EIS for the proposed Fluorine Extraction Process and Depleted Uranium Deconversion Plant also may be accessed on the Internet at www.nrc.gov/reading-rm/doc-collections/nuregs/staff/ by selecting “NUREG-2113.” Additionally, a copy of the Draft EIS will be available at the following public library: Hobbs Public Library, 509 North Shipp, Hobbs, NM 88240, (575) 397-9328.

FOR FURTHER INFORMATION CONTACT: For information about the environmental review process or the Draft EIS for the proposed Fluorine Extraction Process and Depleted Uranium Deconversion Plant, please contact Asimios Malliakos, Project Manager, Environmental Review Branch, Division of Waste Management and Environmental Protection (DWMEP), Mail Stop T-8 F5, U.S. Nuclear Regulatory Commission, Washington, DC 20555-001, by phone at (301) 415-6458. For general or technical information associated with the safety and licensing of uranium deconversion facilities, please contact Matthew Bartlett, Project Manager, Conversion, Deconversion and Enrichment Branch, Division of Fuel Cycle Safety and Safeguards (FCSS), Mail Stop E-2 C40, U.S. Nuclear Regulatory Commission, Washington, DC 20555-0001, by phone at (301) 492-3119.

The Draft EIS was prepared in response to an application submitted by IIFP by letter dated December 30, 2009. The application proposes to construct, operate, and decommission a fluorine extraction and depleted uranium deconversion facility to deconvert commercially generated depleted DUF6 to DUO2 for long-term stable disposal as low-level waste. The fluoride extraction and depleted uranium deconversion facility would be located 14 miles west of Hobbs, New Mexico.

The Draft EIS was prepared by the NRC and its contractor, Straughan Environmental Services, Inc. in compliance with the National Environmental Policy Act of 1969, as amended (NEPA), and the NRC's regulations for implementing NEPA (10 CFR Part 51).

The site is located 22.5 kilometers (km) (14 miles [mi]) west of Hobbs, New Mexico. The proposed tract of land (IIFP site) occupies 259 ha (640 ac), and the proposed facility would occupy an estimated 16 ha (40 ac) of the tract, not including roadways and other infrastructure improvements.

The Draft EIS is being issued as part of the NRC's process to decide whether to issue a license to IIFP, pursuant to 10 CFR Part 40. In this Draft EIS, the NRC staff has assessed the potential environmental impacts from the preconstruction, construction, operation, and decommissioning of the proposed IIFP facility. If a license is granted, the IIFP facility would include a commercial plant to produce specialty fluoride gas products for sale and DUO2 for disposal. IIFP would own the facility and be responsible for its operation and performance.

The NRC staff published a Notice of Intent to prepare an Environmental Impact Statement for the proposed IIFP facility and to conduct a scoping process in the Federal Register on July 15, 2010 (75 FR 41242). The NRC staff accepted comments through August 30, 2010. The NRC staff issued a Scoping Summary Report in November 2010 (ADAMS Accession Number: ML102871105).

The NRC staff assessed the impacts of the proposed action on land use, historical and cultural resources, visual and scenic resources, climatology, meteorology and air quality, geology, minerals and soils, water resources, ecological resources, socioeconomics, environmental justice, noise, traffic and transportation, public and occupational health and safety, and waste management.

Additionally, the Draft EIS analyzes and compares the benefits and costs of the proposed action. Based on the preliminary evaluation in the Draft EIS, the NRC environmental review staff has concluded that the environmental impacts that would result from the proposed action and associated preconstruction activities on the physical environment and human communities would mostly be small, with the exception of small to moderate impacts on climatology, meteorology, and air quality associated with vehicle emissions and temporary fugitive dust released to the air during construction.

In addition to the action proposed by IIFP, the NRC staff addressed the no-action alternative and also a reasonable range of alternatives to the proposed action, including alternative sites for an IIFP facility, alternative technologies, shipment of the U.S.-generated DUF6 to overseas facilities, and the four U.S.-based enrichment companies to construct and operate their own deconversion facilities. These alternatives were eliminated from further analysis due to economic, environmental, or other reasons. The proposed action and the no-action alternative were analyzed in detail. The no-action alternative serves as a baseline for comparison of the potential environmental impacts of the proposed action.

This DEIS is being issued for public comment. The public comment period on the Draft EIS begins with publication of this notice and continues until February 27, 2012. Written comments should be submitted as described in the ADDRESSES section of this notice. The NRC will consider comments received or postmarked after that date to the extent practical.

Dated at Rockville, Maryland, this 5th day of January, 2012.
For The Nuclear Regulatory Commission.
Andrew Persinko,
Deputy Director, Environmental Protection and Performance Assessment Directorate, Division of Waste Management and Environmental Protection, Office of Federal and State Materials and Environmental Management Programs.

[FR Doc. 2012-548 Filed 1-12-12; 8:45 am]

BILLING CODE 7590-01-P